DEPARTMENT OF ENERGY

Federal Energy Regulatory Commission

[Docket No. RP01-234-000]

Florida Gas Transmission Company; Notice of Proposed Changes in FERC Gas Tariff

February 28, 2001.

Take notice that on February 22, 2001, Florida Gas Transmission Company (FGT) tendered for filing to become part of its FERC Gas Tariff, Third Revised Volume No. 1 the following tariff sheets, effective April 1, 2001:

Forty-Sixth Revised Sheet No. 8A

Thirty-Eighth Revised Sheet No. 8A.01

Thirty-Eighth Revised Sheet No. 8A.02

Forty-Second Revised Sheet No. 8B

Thirty-Fifth Revised Sheet No. 8B.01

FGT states that the tariff sheets listed above are being filed pursuant to Section 27 of the General Terms and Conditions (GTC) of FGT's Tariff which provides for the recovery by FGT of gas used in the operation of its system and gas lost from the system or otherwise unaccounted for. The fuel reimbursement charges pursuant to Section 27 consist of the Fuel Reimbursement Charge Percentage (FRCP), designed to recover current fuel usage on an in-kind basis, and the Unit Fuel Surcharge (UFS), designed to recover or refund previous under or overcollections on a cash basis. Both the FRCP and the UFSs are applicable to Market Area deliveries and are effective for seasonal periods, changing effective each April 1 (for the Summer Period) and each October 1 (for the Winter Period).

FGT states that it is filing herein to establish an FRCP of 2.90% to become effective April 1, 2001 based on the actual company fuel use, lost and unaccounted for volumes and Market Area deliveries for the period from April 1, 2000 through September 30, 2000. The proposed FRCP of 2.90%, to become effective April 1, 2001, is an increase of 0.65% from the currently effective FRCP of 2.25%. In addition, FGT states that it is filing to establish a Unit Fuel Surcharge (UFS) of ($0.0056), a decrease of $0.0127 from the currently effective UFS of $0.0071.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5360 Filed 3-5-01; 8:45 am]

BILLING CODE 6717-01-M